POSTAL REGULATORY COMMISSION

Sunshine Act Meetings

DATES: Time and Date: Wednesday, October 5, 2011, at 11 a.m.

Place: Commission Hearing Room, 901 New York Avenue, NW., Suite 200, Washington, DC 20268-0001.

Status: Part of this meeting will be open to the public. The rest of the meeting will be closed to the public. The open session will be audiocast. The audiocast may be accessed via the Commission's Web site at http://www.prc.gov.

Matters To Be Considered: The agenda for the Commission's October 2011 meeting includes the items identified below.

Portions Open to the Public: 1. Report on the joint USPS/PRC Periodicals study.

2. Review of the peak load study.

3. Report on international activities.

4. Report on post office closing appeals.

5. Status of mail classification schedule.

6. Report on pending dockets.

7. Report on legislative activities.

8. Status of Commissioner vacancies.

Portion Closed to the Public: 9. Discussion of pending litigation.

FOR FURTHER INFORMATION CONTACT: Contact Person for Information: Stephen L. Sharfman, General Counsel, Postal Regulatory Commission, 901 New York Avenue, NW., Suite 200, Washington, DC 20268-0001, at 202-789-6820 (for agenda-related inquiries) and Shoshana M. Grove, Secretary of the Commission, at 202-789-6800 or shoshana.grove@prc.gov (for inquiries related to meeting location, access for handicapped or disabled persons, the audiocast, or similar matters).

By the Commission.

Dated: September 21, 2011.
Shoshana M. Grove,
Secretary.

[FR Doc. 2011-24708 Filed 9-22-11; 11:15 am]

BILLING CODE 7710-FW-P